ENVIRONMENTAL PROTECTION AGENCY

40 CFR Part 300

[FRL-6844-3]

National Oil and Hazardous Substances Pollution Contingency Plan; National Priorities List Update

AGENCY: Environmental Protection Agency.

ACTION: Notice of deletion of the Schofield Army Barracks site from the national priorities list.

SUMMARY: The Environmental Protection Agency (EPA) Region 9 announces the deletion of the Schofield Army Barracks Site in Honolulu County, Oahu, Hawaii from the National Priorities List (NPL). The NPL constitutes Appendix B of 40 CFR part 300 which is the National Oil and Hazardous Substances Pollution Contingency Plan (NCP), which EPA promulgated pursuant to section 105 of the Comprehensive Environmental Response, Compensation and Liability Act (CERCLA) of 1980, as amended. EPA and the State of Hawaii Department of Health have determined that the Site poses no significant threat to public health or the environment and, therefore, no further remedial measures pursuant to CERCLA are appropriate.

EFFECTIVE DATE: August 10, 2000.

FOR FURTHER INFORMATION CONTACT: Mark Ripperda, USEPA Region 9, 75 Hawthorne Street, San Francisco, CA 94105, Mail Code SFD-8-3; phone (415) 744-2408.

SUPPLEMENTARY INFORMATION: The site to be deleted from the NPL is: Schofield Army Barracks, Honolulu County, Oahu, Hawaii.

A Notice of Intent to Delete for this site was published in the Federal Register on May 22, 2000 (65 FR 32058). The closing date for comments on the Notice of Intent to Delete was June 22, 2000. One comment was received from the public which supported the proposed deletion.

EPA identifies sites that appear to present a significant risk to public health, welfare, or the environment and it maintains the NPL as the list of those sites. Deletion of a site from the NPL does not affect responsible party liability or impede agency efforts to recover costs associated with response efforts. Section 300.425(e)(3) of the NCP states that whenever there is a significant release from a site deleted from the NPL, the site shall be restored to the NPL without application of the Hazard Ranking System.

List of Subjects in 40 CFR Part 300

Environmental protection, Air pollution control, Chemicals, Hazardous substances, Hazardous waste, Intergovernmental relations, Penalties, Reporting and recordkeeping requirements, Superfund, Water pollution control, Water supply.

Dated: July 5, 2000.
Felicia Marcus,
Regional Administrator, Region IX.

For the reasons set out in the preamble, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p. 351; E.O. 12580, 52 FR 2923, 3 CFR, 1987 Comp., p.193.

Appendix B—[Amended]

2. Table 2 of Appendix B to part 300 is amended by removing the entry for “Schofield Barracks (USARMY), Oahu, Hawaii”.

[FR Doc. 00-20120 Filed 8-9-00; 8:45 am]

BILLING CODE 6560-50-P